DEPARTMENT OF TRANSPORTATION

Federal Aviation Administration

14 CFR Part 71

[Docket No. FAA-2005-23424; Airspace Docket No. 05-AEA-23]

RIN 2120-AA66

Establishment of VOR Federal Airway V-623; NJ and NY

AGENCY: Federal Aviation Administration (FAA), DOT.

ACTION: Final rule.

SUMMARY: This action establishes VOR Federal Airway V-623 between the Sparta, NJ, Very High Frequency Omnidirectional Range Tactical Air Navigation (VORTAC) and the Carmel, NY, Very High Frequency Omnidirectional Range/Distance Measuring Equipment (VOR/DME). The FAA is taking this action to enhance the management of aircraft transiting from the New England area to airports in the Newark, NJ, area.

DATES: Effective Date: 0901 UTC, August 3, 2006.

FOR FURTHER INFORMATION CONTACT: Paul Gallant, Airspace and Rules, Office of System Operations Airspace and AIM, Federal Aviation Administration, 800 Independence Avenue, SW., Washington, DC 20591; telephone: (202) 267-8783.

SUPPLEMENTARY INFORMATION:

History

On January 9, 2006, the FAA published in the Federal Register a notice of proposed rulemaking to establish VOR Federal Airway V-623 (71 FR 1398). Interested parties were invited to participate in this rulemaking effort by submitting written comments on this proposal to the FAA. Two comments were received in response to the proposal. With the exception of editorial changes, this amendment is the same as that proposed in the notice.

Discussion of Comments

One commenter wrote in support of the proposal. A second commenter opposed the new airway based on environmental concerns. The FAA does not agree with the second commenter. The FAA conducted an environmental review of the proposed airway and prepared a Preliminary Environmental Review Checklist (PERC) to determine if any extraordinary circumstances exist that would trigger further environmental review. Establishing V-623 would result in the publication of existing ATC procedures that do not essentially change existing tracks, create new tracks, or change the concentration of aircraft on these tracks. The FAA determined that implementation of airway V-623 would not trigger any circumstances requiring further environmental review. By establishing V-623, the FAA is publishing routing that is already being assigned by air traffic control (ATC) to some aircraft landing at the Newark, Teterboro, and Morristown, NJ, airports. Because this routing is not published, controllers must read the routing to each pilot in flight resulting in increased frequency congestion and controller workload and decreased ATC system efficiency. The establishment of V-623 will permit pilots to be issued this routing when they receive their initial clearances on the ground, eliminating the need to copy route amendments while airborne. This will significantly reduce frequency congestion and controller workload and enhance ATC system efficiency.

VOR Federal Airways are published in paragraph 6010 of FAA Order 7400.9N dated September 1, 2005 and effective September 15, 2005, which is incorporated by reference in 14 CFR 71.1. The VOR Federal Airway listed in this document will be published subsequently in the Order.

The Rule

This action amends Title 14 Code of Federal Regulations (14 CFR) part 71 by establishing V-623 in the vicinity of Newark, NJ, between the Sparta, NJ, VORTAC, and the Carmel, NY, VOR/DME. The FAA is taking this action to enhance the management of aircraft transiting from the New England area to airports in the Newark, NJ, area. In the NPRM, the description of V-623 included the Sparta VORTAC 047°(T) radial. Subsequently, the flight inspection of the route determined that the Sparta 049°(T) radial is more accurate. Therefore, in this rule, the route description is amended to reflect the Sparta 049°(T) radial. The radials in this rule are stated in degrees relative to True North.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA conducted an environmental review of this action and determined that this action qualifies for categorical exclusion under the National Environmental Policy Act in accordance with Paragraph 311k of FAA Order 1050.1E, Environmental Impacts: Policies and Procedures.

List of Subjects in 14 CFR Part 71

Airspace, Incorporation by reference, Navigation (air).

The Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9N, Airspace Designations and Reporting Points, dated September 1, 2005, and effective September 15, 2005, is amended as follows:

Paragraph 6010(a)—Domestic VOR Federal Airways

* * * * *

V-623 [New]

From Sparta, NJ; INT Sparta 049° and Carmel, NY, 263° radials; to Carmel.

* * * * *

Issued in Washington, DC on May 19, 2006.
Edith V. Parish,
Manager, Airspace and Rules.

[FR Doc. E6-8280 Filed 5-26-06; 8:45 am]

BILLING CODE 4910-13-P